NUCLEAR REGULATORY COMMISSION

10 CFR Part 95

[NRC-2011-0268]

RIN 3150-AJ07

Facility Security Clearance and Safeguarding of National Security Information and Restricted Data

AGENCY: Nuclear Regulatory Commission.

ACTION: Direct final rule; confirmation of effective date.

SUMMARY: The U.S. Nuclear Regulatory Commission (NRC) is confirming the effective date of October 21, 2013, for the direct final rule that was published in the Federal Register on August 7, 2013. This direct final rule updated the NRC's regulations to standardize the frequency of required security education training for employees of NRC licensees possessing security clearances so that such training will be conducted annually consistent with the objectives of Executive Order 13526, Classified National Security Information. In addition, this direct final rule allowed licensees flexibility in determining the means and methods for providing this training, established uniformity in the frequency of licensee security education and training programs, and enhanced the protection of classified information.

DATES: The effective date of October 21, 2013, is confirmed for this direct final rule.

ADDRESSES: Please refer to Docket ID NRC-2011-0268 when contacting the NRC about the availability of information regarding this document. You may access publicly-available information related to this document using any of the following methods:

• Federal Rulemaking Web site: Go to http://www.regulations.gov and search for Docket ID NRC-2011-0268. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Daniel W. Lenehan, Office of the General Counsel, U.S. Nuclear Regulatory Commission, Washington, DC 20555-0001; telephone: 301-415-3501; email: Daniel.Lenehan@nrc.gov.

SUPPLEMENTARY INFORMATION: On August 7, 2013 (78 FR 48037), the NRC published a direct final rule that amended its regulations in § 95.33 of Title 10 of the Code of Federal Regulations. The direct final rule amendments required NRC licensees (or their designees) to conduct classified information security refresher briefings for all cleared employees at least annually and to provide derivative classification training for employees authorized to apply derivative classifications before exercising this authority and then at least once every 2 years thereafter. This direct final rule also gave licensees flexibility in determining the means and methods for providing this training. In the direct final rule, the NRC stated that if any significant adverse comments were received on the companion proposed rule by September 6, 2013 (78 FR 48076; August 7, 2013), a notice of timely withdrawal of the direct final rule would be published in the Federal Register. A significant adverse comment is one where a commenter explains why the rule would be inappropriate, including challenges to its underlying premise or approach, or would be ineffective, or unacceptable without a change. The NRC did not receive any comments that warranted withdrawal of the direct final rule. Therefore, this direct final rule was effective as scheduled.

Dated at Rockville, Maryland, this 7th day of November 2013.
For the Nuclear Regulatory Commission.
Cindy Bladey,
Chief, Rules, Announcements, and Directives Branch, Office of Administration.

[FR Doc. 2013-27140 Filed 11-18-13; 8:45 am]

BILLING CODE 7590-01-P